DEPARTMENT OF COMMERCE

National Telecommunications and Information Administration

Docket No. 100305127-0127-01

Public Telecommunications Facilities Program: New Closing Date

AGENCY: National Telecommunications and Information Administration, U.S. Department of Commerce.

ACTION: Notice; to re-open competitive solicitation for applications to increase digital power levels of public radio stations.

SUMMARY: The National Telecommunications and Information Administration (NTIA) hereby announces that it will re-open the solicitation for Public Telecommunications Facilities Program (PTFP) applications until Thursday, April 22, 2010, to accommodate the increase in digital power levels of radio stations, as allowed by the provisions of the January 29, 2010, Order announced by the Federal Communications Commission (FCC).¹

¹ In the matter of Digital Audio Broadcasting Systems and Their Impact on the Terrestrial Radio Broadcast Service, MB Docket No. 99-325, Order, DA 10-208, (January 29, 2010).

DATES: Applications to increase digital power levels of radio stations, as allowed by the provisions of the FCC January 29, 2010, Order, must be received prior to 5:00 p.m. Eastern Daylight Time (hereinafter “New Closing Time”), Thursday, April 22, 2010 (hereinafter “New Closing Date”). Applications submitted by facsimile are not acceptable. If an application is received after the New Closing Date due to (1) carrier error, when the carrier accepted the package with a guarantee for delivery by the New Closing Date and New Closing Time, (2) significant weather delays or natural disasters, or (3) delays due to national security issues, NTIA will, upon receipt of proper documentation, consider the application as having been received by the deadline. NTIA will not accept applications posted on the New Closing Date or later and received after this deadline.

ADDRESSES: To obtain a printed application package, submit completed applications, or send any other correspondence, write to PTFP at the following address: NTIA/PTFP, Room H-4812, U.S. Department of Commerce, 1401 Constitution Avenue, NW, Washington, DC 20230. Application materials may be obtained electronically via the Internet at www.ntia.doc.gov/ptfp or www.grants.gov.

FOR FURTHER INFORMATION CONTACT: William Cooperman, Director, Public Broadcasting Division, telephone: (202) 482-5802; fax: (202) 482-2156. Information about the PTFP also can be obtained electronically via the Internet at www.ntia.doc.gov/ptfp.

SUPPLEMENTARY INFORMATION: On December 2, 2009, NTIA began the fiscal year (FY) 2010 PTFP grant round with publication of a Notice of Closing Date for Solicitation of Applications in the Federal Register.² The Notice established February 4, 2010, as the Closing Date (hereinafter “Original Closing Date”) for receipt of applications for most projects, and February 26, 2010, as the Closing Date (hereinafter “Second Closing Date”) for receipt of applications for projects filed at the FCC during the FCC’s February 19-26 FM Window. NTIA established this Second Closing Date because PTFP’s primary legislative mandate is to “extend delivery of public telecommunications services to as many citizens of the United States as possible.”³ The FCC’s February FM Window provides interested parties with the first opportunity in many years to submit noncommercial educational FM applications for new stations.

² 74 Fed. Reg. 63120.

³ 47 U.S.C. § 390.

NTIA also posted a Federal Funding Opportunity (FFO) Notice regarding the FY 2010 PTFP grant round on the grants.gov and PTFP websites on the same date.⁴ In the FFO, NTIA noted that the FCC was considering changing the permitted power levels of digital radio facilities (a hybrid analog/digital In-Band-On-Channel (IBOC) system). NTIA indicated that it would not provide funds for transmitters to operate at IBOC power levels higher than those authorized by the FCC for the station at the time of award. If the FCC subsequently authorized IBOC higher power levels, grantees would be permitted to add non-Federal funds to purchase a higher-power transmitter that is partially funded by the PTFP grant.

⁴ The FY 2010 FFO can be found at http://www.ntia.doc.gov/ptfp/attachments/FFO_Notice_10.html.

On January 29, 2010, the FCC released an Order permitting radio stations broadcasting a hybrid analog/digital signal to increase the effective radiated power (ERP) of the digital portion of their transmission.⁵ In the January 29, 2010, Order, the FCC found that:

⁵ See supra note 1, Appendix C, Final Rule Changes, at § 73.404.

13. Voluntary Increases Up to 6 dB. Virtually all of the licensees of the nearly 1,500 commercial and NCE FM stations currently operating hybrid FM digital facilities have concluded that the coverage resulting from their operations at maximum permissible FM Digital ERP levels does not replicate analog coverage, and that indoor and portable coverage are particularly and significantly diminished. Both the iBiquity and NPR studies confirm these service limitations. Moreover, the number of notifications of the commencement of hybrid FM digital operations has dropped significantly over the past two years. Based on these findings, we conclude that it is important to increase FM Digital ERP to improve FM digital coverage and to eliminate regulatory impediments to FM digital radio’s ability to meet its full potential and deliver its promised benefits.

Through the Order, the FCC acknowledged the inadequacy of the former digital power levels to duplicate the service areas of a station’s analog signal. The clarifications contained in the FCC Order now provide additional technical guidance to stations that desire to provide multicasting service to serve their communities, but delayed investing in multicasting due to inadequate digital signal coverage.

The FCC’s adoption of the Order was released on January 29, 2010, less than a week before the Original Closing Date for receipt of PTFP applications. Because of the importance the PTFP statute places on extending service to as many citizens of the United States as possible, NTIA is re-opening the solicitation period for digital radio power increase applications until April 22, 2010, so stations may apply for financial assistance necessary to build facilities as allowed by the new FCC Rules. Those digital radio stations that applied by the Original Closing Date and that are seeking to increase power pursuant to the new FCC Rules may amend their application. Those digital radio stations that did not apply by the Original Closing Date and that are seeking to increase power pursuant to the new FCC Rules may now apply. Applicants for digital power increase applications must follow the procedures described in the next two sections.

Submit New Applications for Multicasting Projects

Due to this recent FCC action regarding the power level of digital radio, NTIA now has a further opportunity to extend delivery of public telecommunications services during the FY 2010 grant cycle. An important feature of digital radio is the ability of a station to broadcast several program services on a single broadcast frequency, analogous to the multicasting capability of digital television stations. These additional program services are broadcast on discrete subchannels of the stations and are usually referred to as channels HD-1, HD-2, etc. Through multicasting on digital radio, stations can provide additional programming resources to unserved and underserved communities within their coverage area.⁶ Because a multicast digital signal uses the infrastructure of an analog station, the cost of activating additional programming services on digital radio are much less than the cost of constructing a new station. Further, stations can add additional programming services on HD channels in communities where it would be impossible to construct an additional station due to lack of available frequencies.

⁶ For example, KPCC-FM, Pasadena, CA, provides English language news and information on its HD-1 channel, a Spanish language service on its HD-2 channel, and alternative music on its HD-3 channel. WJCT-FM, Jacksonville, FL, provides primarily news and information on its HD-1 channel, classical music and arts on its HD-2 channel, and NOAA weather information on its HD-3 channel.

Since a station’s primary digital program stream must duplicate its analog programming, the programming distributed via additional multicast channels is, by its very nature, an additional service to the community. The PTFP Rules place additional service projects in Priority 4A, “The establishment of public broadcasting facilities to serve a geographic area already receiving public telecommunications services. The applicant must demonstrate that it will address underserved needs in an area which significantly differentiates its service from what is already available in its service area.”⁷

⁷ 15 CFR 2301.4(b)(4)(ii).

NTIA will accept new applications for digital power increase projects for Priority 4A projects from stations that:

1. Are currently broadcasting in digital and will add an additional program service (HD channel) by multicasting. These applicants can request funding for a digital power increase, for equipment required to broadcast an additional digital channel, and for production equipment required to program the additional channel(s); or

2. Are currently broadcasting more than one program service via a digital multicast signal. These applicants can request funding for a digital power increase. They may also request funds for equipment required to produce programming and broadcast an additional digital channel to expand their service.

Applicants for digital power increase projects requesting Priority 4A consideration must:

1. Submit a complete application as required by the December 2, 2009, Federal Register Notice and FFO;

2. Demonstrate that the multicast program service will address underserved needs in a way that significantly differentiates the service from what is already available in the proposed coverage area or on the station’s analog channel;

3. Include in Exhibits A (Inventory) and B (Equipment Justification) thorough descriptions of the analog and digital transmission system and combining system in place and the modifications required for the power increase, as well as any production/programming equipment requested to support the additional channels;

4. Submit a copy of the station’s FCC request if the project proposes any increase in FM Digital ERP beyond 6 dB; and

5. Certify at time of project close out that the station is broadcasting diverse program services as proposed in the application.

Amend Existing Applications for Single Channel Digital Projects

NTIA recognizes that applications for digital FM transmitters were submitted by the February 4, 2010, Original Closing Date that did not involve power increases for multicasting. These applications include requests for transmitter replacements, digital conversion projects, and the construction of new stations. Since the change in the FCC Rules occurred less than a week prior to the Original Closing Date, few applicants had the opportunity to submit applications for transmission equipment at the newly authorized higher digital power levels.

NTIA believes that it is a disservice to the stations and their listeners, and unproductive for NTIA to expend its staff resources and grant funds in processing applications for less than a station’s desired and authorized transmitter power. In keeping with the intent of the statute, NTIA intends to fund the highest power desired by a station and permitted by the FCC so a station can serve the maximum number of people in its coverage area. Since the FCC increased permitted digital power only a week before the February 4, 2010, Original Closing Date, NTIA believes it would be fair to all FY 2010 applicants for digital radio transmission systems to have an equal opportunity to request funding for full power transmission equipment.

NTIA, therefore, will permit stations that submitted an application and requested digital radio transmission equipment by the February 4, 2010, Original Closing Date to amend their applications. The following are the procedures for amending a FY 2010 radio application requesting digital transmission equipment:

1. Applicants must file an amended application by Thursday, April 22, 2010.

2. Applicants must email their PTFP program officer a notice of their intent to amend their application so the PTFP application software (Online Fillable Form) can be unlocked and they can revise their request.

3. The amended application must:

a. Include a revised SF-424 form, with the revised project amount and Federal funds requested, and signed by an authorized representative of the applicant;

b. Contain the application number assigned by PTFP for the original submission;

c. Include a revised list of equipment requested;

d. Include revised Exhibits A (Inventory) and B (Equipment Justification) that contains thorough descriptions of the analog and/or digital transmission system and combining system in place and modifications that may be required for the power increase; and

e. Submit a copy of the station’s FCC request if the project proposes any increase in FM Digital ERP beyond 6 dB.

NTIA will only accept applications that meet the criteria discussed in this Notice. NTIA will return an application for a Priority 4A digital power increase or amendment that does not meet the criteria of the above two sections.

Applicants are reminded that no grant will be awarded until NTIA has received confirmation from the FCC that any necessary authorization will be issued.

Applications submitted in response to the April 22, 2010, New Closing Date will utilize the same forms, and undergo the same review and evaluation process contained in the December 2, 2009, Notice. On January 13, 2010, NTIA published a Notice of Availability of Funds in the Federal Register announcing that $18 million has been appropriated for FY 2010 grants.⁸

⁸ 75 Fed. Reg. 1775.

Dated: March 15, 2010.
Dr. Bernadette McGuire-Rivera,
Associate Administrator, Office of Telecommunications and Information Applications.

[FR Doc. 2010-6044 Filed 3-18-10; 8:45 am]

BILLING CODE 3510-60-S